DEPARTMENT OF JUSTICE

Office of Justice Programs

[OJP (NIJ) Docket No. 1768]

Roadside Impairment Detection and Field Sobriety Testing Technologies Market Survey

AGENCY: National Institute of Justice (NIJ), Justice.

ACTION: Notice of request for information.

SUMMARY: The National Institute of Justice (NIJ) is soliciting information for use in an upcoming Criminal Justice Testing and Evaluation Consortium (CJTEC) report tentatively titled, “A Landscape Report of Roadside Impairment Detection and Field Sobriety Testing Technologies.” The report will identify technologies that are commercially available or near-market technologies to determine impairment of an individual in a field setting. This document will assist law enforcement agencies in making informed decisions for purchasing impairment technologies to determine whether an individual is driving while impaired or under the influence of drugs.

DATES: Emailed responses must be received (and mailed responses postmarked) by 5:00 p.m. Eastern Time on December 2, 2019.

ADDRESSES: Responses to this request may be submitted electronically by email to Marjorie Baldi at mbaldi@rti.org with the subject line “Impairment Detection Technologies Federal Register Response.” Responses may also be sent by mail to the following address: Criminal Justice Testing and Evaluation Consortium (CJTEC), ATTN: Marjorie Baldi, Impairment Detection Technologies Federal Register Response, RTI International, P.O. Box 12194, 3040 E Cornwallis Road, Research Triangle Park, NC 27709-2194.

FOR FURTHER INFORMATION CONTACT: For more information on this market survey, please contact Rebecca Shute (CJTEC) by telephone at 919-248-4218 or rshute@rti.org. For more information on the NIJ CJTEC, visit https://nij.ojp.gov/funding/awards/2018-75-cx-k003 and view the description, or contact Steven Schuetz (NIJ) by telephone at 202-514-7663 or at steven.schuetz@usdoj.gov. Please note that these are not toll-free telephone numbers.

SUPPLEMENTARY INFORMATION:

Information sought: Specific product and company information for: (1) Technologies that can help law enforcement officers determine that a certain level of intoxicant is present in an individual's system at a specific cutoff concentration, and (2) technologies that help law enforcement officers establish whether an individual is impaired, including eye tracking technologies, physical coordination sensors and apps, and mental agility apps. An independent response should be submitted for each product that respondents would like CJTEC to consider in their landscape report. NIJ encourages respondents to provide information in common file formats, such as Microsoft Word, pdf, or plain text. Each response should include contact information.

Usage: Information provided in response to this request may be published in the upcoming landscape report, “A Landscape Study of Roadside Impairment Detection and Field Sobriety Testing Technologies.”

Information categories: Comments are invited with regard to the market survey, including which categories of information are appropriate for comparison, as well as promotional material (e.g., slick sheet) and print-quality photographs of the technology. At a minimum, CJTEC intends to include the following categories of information for each technology that may be of use to law enforcement officials:

1. Vendor Information

a. Full name of company

b. Contact information for technical contact for products

c. Website URL

d. Years the company has been in business

e. Number and types of customers served (e.g., municipal, county, or state agencies)

f. Location where the technologies are manufactured, assembled, refurbished

g. Picture or photograph of product

h. Vendor logo

2. Product Information

a. Device Category

i. Technologies that determine that a certain level of intoxicant is present in an individual's system at a specific cutoff concentration (this includes products that detect the presence of drugs in breath, oral fluid, sweat or other matrices)

ii. Technologies that establish whether an individual is impaired, including eye tracking technologies, physical coordination sensors and apps, and mental agility apps.

b. Physical Information

i. Dimensions (in inches)

ii. Weight (in pounds)

iii. Primary materials used to construct the product

iv. Temperature range in which the product can reliably operate (in Fahrenheit and Celsius)

v. Display unit (e.g., diagonal size of screen in inches as well as type of screen)

vi. Ruggedization (including features that optimize the product for field use, such as waterproofing, and any corresponding standards compliance)

c. Technical Specifications

i. Type of sensor or test used to determine impairment or intoxication

ii. Detection range of sensor or test (e.g., g/L)

iii. Cut-off concentration for each drug tested (ng/mL)

iv. Accuracy of the instrument (e.g., standard error, false positive and false negative rate)

v. Memory capability of instrument (either in MB/GB or number of tests stored)

vi. Whether test records and other data on the instrument can be transferred, and the method by which it is transferred (e.g., internet connectivity, ethernet cables, Bluetooth connectivity)

vii. Power supply (e.g. battery or voltage of power supply)

viii. Battery life, if applicable

ix. Standard accessories offered

d. Types/Classes of Drugs Detected

i. Alcohol

ii. Opioids

iii. Benzodiazepines

iv. Cannabinoids

v. Barbiturates

vi. Cocaine

vii. Amphetamines

viii. Methamphetamines

ix. Ketamine

x. Other

e. Operating Information of Device/Hardware

i. Calibration requirements for device, if applicable (e.g., how it is calibrated, how long it takes, frequency of calibration)

ii. Average response time of test (in minutes)

iii. Warm-up time of device (in minutes)

iv. Training offered and cost

v. Technical support offered and cost

vi. Other maintenance required for instrument

vii. Terms and cost of any standard and/or extended warranties offered

f. Software (if applicable)

i. Frequency of software updates

ii. Last known software release date

iii. Steps needed to update software

iv. Operating System required for use

v. Other system requirements for use (e.g., hardware requirements or supporting software packages)

vi. Use of web servers or cloud storage by software

vii. Licenses required to use the software

g. Financial Information

i. Base unit cost (in USD)

ii. Software costs (including whether it is a subscription service, license, or other, in USD)

iii. Other associated costs (in USD)

iv. Accessory Costs (in USD)

v. Training Costs (in USD)

vi. Financing Options (e.g., lease versus ownership)

h. Other information

3. Use Cases

a. Approximate number of units sold to law enforcement (if available)

b. Names and contact information (phone and email) for end users who have implemented the product in casework (if available)

David B. Muhlhausen,
Director, National Institute of Justice.

[FR Doc. 2019-22727 Filed 10-17-19; 8:45 am]

BILLING CODE 4410-18-P